DEPARTMENT OF THE INTERIOR

Fish and Wildlife Service

Aquatic Nuisance Species Task Force Meeting

AGENCY: Fish and Wildlife Service, Interior.

ACTION: Notice of meeting.

SUMMARY: This notice announces a meeting of the Aquatic Nuisance Species (ANS) Task Force. The meeting topics are identified in the SUPPLEMENTARY INFORMATION section.

DATES: The Aquatic Nuisance Species Task Force will meet from 8 a.m. to 5 p.m. on Wednesday, May 26, 2004, and 8 a.m. to 12 p.m. on Thursday, May 27, 2004. Minutes of the meeting will be available for public inspection during regular business hours, Monday through Friday.

ADDRESSES: The Aquatic Nuisance Species Task Force meeting will be held at the Holiday Inn Select, 2200 I-70 Dr. SW, Columbia, Missouri 65203. Phone (573) 445-8531. Minutes of the meeting will be maintained in the office of Chief, Division of Environmental Quality, U.S. Fish and Wildlife Service, Suite 322, 4401 North Fairfax Drive, Arlington, Virginia 22203-1622.

FOR FURTHER INFORMATION CONTACT: Everett Wilson, Acting Executive Secretary, Aquatic Nuisance Species Task Force, at (703) 358-2148.

SUPPLEMENTARY INFORMATION: Pursuant to section 10(a)(2) of the Federal Advisory Committee Act (5 U.S.C. App. I), this notice announces meetings of the Aquatic Nuisance Species Task Force. The Task Force was established by the Nonindigenous Aquatic Nuisance Prevention and Control Act of 1990.

Topics to be covered during the ANS Task Force meeting include: introduction of new members; an update of activities from each of the Task Force's regional panels; status reports from several Task Force committees and working groups, including the Prevention and Outreach Committees, the New Zealand mudsnail working group, and the Caulerpa working group; presentations by the Mississippi River Basin Panel; an update on ballast water management activities; an update on the activities of the National Invasive Species Council; and other topics.

Dated: March 16, 2004.
Mamie A. Parker,
Co-Chair, Aquatic Nuisance Species Task Force, Assistant Director—Fisheries & Habitat Conservation.

[FR Doc. 04-8309 Filed 4-12-04; 8:45 am]

BILLING CODE 4310-55-P